DEPARTMENT OF LABOR

Office of the Secretary

Submission for OMB Review: Comment Request

March 24, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Pre-Hearing Statement.

OMB Number: 1215-0085.

Form Number: LS-18.

Frequency: On occasion.

Type of Response: Reporting.

Affected Public: Business and other for-profit and Individuals or households.

Number of Respondents: 5,400.

Annual Reponses: 5,400.

Average Response Time: 10 minutes.

Total Annual Burden Hours: 918.

Total Annualized capital/startup costs: $0.

Total Annual Costs (operating/maintaining systems or purchasing services): $2,221.

Description: The Office of Workers' Compensation Programs administers the Longshore and Harbor Workers' Compensation Act (the Act). The Act provides benefits to workers injured in maritime employment on the navigable waters of the United States or in an adjoining area customarily used by an employer in loading, unloading, repairing, or building a vessel. Title 20, CFR 702.317 provides for the referral of claims under the Longshore Act for formal hearings. The LS-18 is used to refer cases to the Office of the Administrative Law Judges for formal hearings under the Act.

Agency: Employment Standards Administration.

Type of Review: Extension of currently approved collection.

Title: Claim for Continuance of Compensation.

OMB Number: 1215-0154.

Form Number: CA-12.

Frequency: Annually.

Type of Response: Reporting.

Affected Public: Individuals or households.

Number of Respondents: 5,450.

Annual Reponses: 5,450.

Average Response Time: 5 minutes.

Total Annual Burden Hours: 454.

Total Annualized capital/startup costs: $0.

Total Annual Costs (operating/maintaining systems or purchasing services): $2,017.

Description: The Office of Workers' Compensation Programs (OWCP) administers the Federal Employees' Compensation Act (FECA), 5 U.S.C. 8133. FECA provides that eligible dependents of deceased employees receive compensation benefits on account of the employee's death. The OWCP monitors death benefits for current marital status, potential for dual benefits, and other criteria for qualifying as a dependent under the law. The CA-12 is sent annually to beneficiaries in death cases to ensure that their status has not changed and that they remain entitled to benefits.

Ira L. Mills,
Departmental Clearance Officer.

[FR Doc. 05-6921 Filed 4-6-05; 8:45 am]

BILLING CODE 4510-CF-P